DEPARTMENT OF ENERGY

Federal Energy Regulatory Commission

[Project No. 2570-034]

Eagle Creek Racine Hydro, LLC; Notice of Waiver Period for Water Quality Certification Application

On December 21, 2022, Eagle Creek Racine Hydro, LLC submitted to the Federal Energy Regulatory Commission (Commission) a copy of its application for a Clean Water Act section 401(a)(1) water quality certification filed with the Ohio Environmental Protection Agency (Ohio EPA), in conjunction with the above captioned project. Pursuant to 40 CFR 121.6 and section 5.23(b) of the Commission's regulations,¹ we hereby notify the Ohio EPA of the following:

¹ 18 CFR 5.23(b).

Date of Receipt of the Certification Request: December 20, 2022

Reasonable Period of Time To Act on the Certification Request: One year (December 20, 2023)

If the Ohio EPA fails or refuses to act on the water quality certification request on or before the above date, then the agency certifying authority is deemed waived pursuant to section 401(a)(1) of the Clean Water Act, 33 U.S.C. 1341(a)(1).

Dated: December 21, 2022.
Kimberly D. Bose,
Secretary.

[FR Doc. 2022-28250 Filed 12-27-22; 8:45 am]

BILLING CODE 6717-01-P